DEPARTMENT OF HEALTH AND HUMAN SERVICES

Substance Abuse and Mental Health Services Administration

Fiscal Year (FY) 2003 Funding Opportunity

AGENCY: Substance Abuse and Mental Health Services Administration, HHS.

ACTION: Notice of funding availability for SAMHSA Services Grant Program for Residential Treatment for Pregnant and Postpartum Women.

SUMMARY: The Substance Abuse and Mental Health Services Administration (SAMHSA), Center for Substance Abuse Treatment (CSAT) announces the availability of FY 2003 funds for the grant program described below. A synopsis of this funding opportunity, as well as many other Federal Government funding opportunities, is also available at the Internet site: http://www.fedgrants.gov.

This notice is not a complete description of the program; potential applicants must obtain a copy of the Request for Applications (RFA), including Part I, Services Grant Program for Residential Treatment for Pregnant and Postpartum Women, Part II, General Policies and Procedures Applicable to all SAMHSA Applications for Discretionary Grants and Cooperative Agreements, and the PHS 5161-1 (Rev. 7/00) application form before preparing and submitting an application.

Funding Opportunity Title: Services Grant Program for Residential Treatment for Pregnant and Postpartum Women—Short Title: PPW.

Funding Opportunity Number: TI 03-012.

Catalog of Federal Domestic Assistance (CFDA) Number: 93.243.

Authority: Section: 508 of the Public Health Service Act, as amended and subject to the availability of funds.

Funding Opportunity Description: The Substance Abuse and Mental Health Services Administration (SAMHSA), Center for Substance Abuse Treatment (CSAT) is accepting applications for Fiscal Year 2003 grants to expand the availability of comprehensive, high quality residential treatment services for pregnant and postpartum women (postpartum refers to the period after childbirth—up to 12 months) who suffer from alcohol and other drug use problems, and for their infants and children impacted by the perinatal and environmental effects of maternal substance use and abuse.

Eligible Applicants: Domestic public and non-profit private entities, including tribal governments/organizations, community- and faith-based organizations, may apply.

Due Date for Applications: July 23, 2003.

Estimated Funding Available/Number of Awards: It is expected that approximately $3 million will be available for 6 to 9 awards in FY 2003. The average annual award will range from $350,000 to $500,000 in total costs (direct and indirect). Actual funding levels will depend on the availability of funds. Applications with proposed budgets that exceed $500,000 will be returned without review.

Is Cost Sharing Required: Yes. Non-Federal contributions are required and may be in cash or in-kind, fairly evaluated. The matching funds must not be less than $1 for each $9 of Federal funds provided in years one and two, and not less than $1 for each $3 of Federal funds in any subsequent year. Matching funds must meet the same test of allowability as costs charged to Federal grants. Sources of matching funds are State and local governmental appropriations (non-Federal), foundations, and other private non-profit or for-profit organizations. In-kind contributions may include facilities, equipment, or services used in direct support of the project.

Period of Support: Up to 3 years, with annual continuations depending on availability of funds and progress achieved.

How to Get Full Announcement and Application Materials: Complete application kits may be obtained from: the National Clearinghouse for Alcohol and Drug Information (NCADI) at 1-800-729-6686. The PHS 5161-1 application form and the full text of the funding announcement are also available electronically via SAMHSA's World Wide Web Home Page: http://www.samhsa.gov (Click on ‘Grant Opportunities’).

When requesting an application kit, the applicant must specify the funding opportunity title and number for which detailed information is desired. All information necessary to apply, including where to submit applications and application deadline instructions, are included in the application kit.

Contact for Additional Information: Linda White Young, Substance Abuse and Mental Health Services Administration, Center for Substance Abuse Treatment, 5600 Fishers Lane/Rockwall II, 7th Floor, Rockville, MD 20857, (301) 443-8392, E-Mail: Lwhite1@samsha.gov.

Dated: May 20, 2003.
Richard Kopanda,
Executive Officer, Substance Abuse and Mental Health Services Administration.

[FR Doc. 03-13393 Filed 5-28-03; 8:45 am]

BILLING CODE 4162-20-P